DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-0361.

Project: Revision of Mental Health Client/Participant Outcome Measures and Infrastructure, Prevention, and Mental Health Promotion Indicators (OMB No. 0930-0285)

SAMHSA is requesting approval for revisions to the previously approved instruments and data collection activities for the Government Performance and Results Act (GPRA) Center Mental Health Services (CMHS) (OMB No. 0930-0285) that expires on February 28, 2022.

To be fully accountable for the spending of federal funds, SAMHSA requires all programs to collect and report data to ensure that program goals and objectives are met. Data is collected and used to monitor and improve performance of each program and ensure appropriate and thoughtful spending of federal funds.

SAMHSA requests the following revisions to the National Outcome Measures (NOMS) Mental Health Client/Participant Outcome measures: (1) Merge the CMHS NOMS Child Client-level Measures for Discretionary Programs data collection instrument with the current CMHS NOMS Adult Client-level Measures for Discretionary Programs data collection instrument; (2) delete questions for data not being utilized for program monitoring and quality improvement; (3) reduce grantee burden by shifting questions for a five-point psychometric response scale to “Yes”, “No”, “No response”, or “Not applicable” responses; (4) modify IDC-10 diagnoses to expand the F40-48, F60-63, and F90-99 codes to allow for more specificity. Also, add ICD-10 “Z” codes to allow for a focus on social determinants of health that may affect the diagnosis, course, prognosis, or treatment of a client/consumer mental disorder; (6) shift reporting NOMS data to baseline assessment, 3-month or 6-month reassessment, and a final clinical discharge assessment; (7) reduce the number of physical health indictors and reporting frequency from quarterly to three points in time (baseline, 3- or 6-month reassessment, clinical discharge) to further reduce grantee burden.

SAMHSA also requests the following revisions to the Infrastructure, Prevention, and Mental Health Promotion indicators: (1) Delete ten indicators not used by any SAMSHA programs (A3, A6, F1, F2, F3, O2, T4, WD1, WD3, and WD4); (2) revise two indicators to provide more clarity (A1 and A5); and (3) add ten indicators to reflect program developments during the past three years (R2, S2, S3, T5, T6, T7, T8, TR2, TR3, and TR4).

These changes will lessen grantee burden with data collection and improve capacity to report qualitative performance and quantitative outcomes for all discretionary grant programs, including: Demographic characteristics of clients served; clinical characteristics of clients served before, during, and after receipt of services; numbers of clients served; and characteristics of services and activities provided to clients.

Currently, the information collected from this instrument is entered and stored on SAMHSA's Performance Accountability and Reporting System (SPARS), which is a real-time, performance management system that captures information on mental health and substance abuse treatment services delivered in the United States. Continued approval of this information collection will allow SAMHSA to continue to meet Government Performance and Results Modernization Act of 2010 (GPRMA) reporting requirements that quantify the effects and accomplishments of its discretionary grant programs, which are consistent with OMB guidance.

SAMHSA will use the data collected for annual reporting required by GPRMA, to describe and understand changes in outcomes from baseline to follow-up to discharge. SAMHSA and its Centers will use the data for annual reporting comparing baseline with discharge and follow-up data. SAMHSA's report for each fiscal year will include actual results of performance monitoring for the three preceding fiscal years. Information collected through this request will allow SAMHSA to report on the results of these performance outcomes as well as be consistent with SAMHSA-specific performance domains, and to assess the accountability and performance of its discretionary and formula grant programs. The additional information collected through this request will allow SAMHSA to improve its ability to assess the impact of its programs on key outcomes of interest and to gather vital diagnostic information about clients served by discretionary grant programs.

The requested changes will result in a reduction of total burden hours. Currently, there are 104,168 total burden hours in the OMB-approved inventory. SAMHSA is requesting a reduction to 68,673 hours or an estimated decrease of 35,494 burden hours. The proposed estimate of time to collect data and complete the instruments is shown in Table 1.

Table 1—Estimates of Annualized Hour Burden
SAMHSA tool | Number of respondents | Responses per respondent | Total responses | Hours per response | Total hour burden
Client-level baseline interview | 40,280 | 1 | 40,280 | 0.33 | 30,901
Client-level 3- or 6-month reassessment interview | 40,280 | 1 | 40,280 | 0.33 | 30,901
Client-level clinical discharge interview | 6,668 | 1 | 6,668 | 0.33 | 2,200
Section H Physical Health Data Baseline | 39,231 | 1 | 39,231 | .10 | 3,923
Section H Program Specific Data: Baseline, 3- or 6-month reassessment, and clinical discharge | 14,800 | 2 | 29,600 | .08 | 2,368
Subtotal | 141,259 |  | 154,059 |  | 68,673
Infrastructure development, prevention, and mental health promotion quarterly record abstraction | 942 | 4 | 3,768 | 2.0 | 7,536
Total | 142,201 |  | 157,827 |  | 104,168

Send comments to Carlos Graham, SAMHSA Reports Clearance Officer, 5600 Fisher Lane, Room 15E57A, Rockville, MD 20852 OR email him a copy at carlos.graham@samhsa.hhs.gov. Written comments should be received by October 1, 2021.

Carlos Graham,
Social Science Analyst.

[FR Doc. 2021-16406 Filed 7-30-21; 8:45 am]

BILLING CODE 4162-20-P